DEPARTMENT OF JUSTICE

Antitrust Division

Notice Pursuant to the National Cooperative Research and Production Act of 1993—Southwest Research Institute (“SwRI”): Clean Diesel IV

Notice is hereby given that, on March 27, 2007, pursuant to Section 6(a) of the National Cooperative Research and Production Act of 1993, 15 U.S.C. 4301 et seq. (“the Act”), Southwest Research Institute (“SwRI”) Clean Diesel IV has filed written notifications simultaneously with the Attorney General and the Federal Trade Commission disclosing changes in its membership. The notifications were filed for the purpose of extending the Act's provisions limiting the recovery of antitrust plaintiffs to actual damages under specified circumstances. Specifically, Chevron Energy Technology Co., San Ramon, CA, Hitachi, Ltd., Ibaraki-Ken, JAPAN, and PAS Peugeot Citroen, Cedex, FRANCE have become parties to the group research project. In addition, ArvinMeritor, Inc., Troy, MI, Norstar Founders Group, Ltd., Causeway Bay, HONG KONG-CHINA, and Senior Automotive, Bartlett, IL, are no longer parties to this group research project.

No other changes have been made in either the membership or planned activity of the group research project. Membership in this group research project remains open, and SwRI v intends to file additional written notifications disclosing all changes in membership.

On April 6, 2004, SwRI Clean Diesel IV filed its original notification pursuant to Section 6(a) of the Act. The Department of Justice published a notice in the Federal Register pursuant to Section 6(b) of the Act on May 10, 2004 (69 FR 25923).

The last notification was filed with the Department on June 28, 2005. A notice was published in the Federal Register pursuant to Section 6(b) of the Act on July 13, 2005 (70 FR 40400).

Patricia A. Brink,
Deputy Director of Operations, Antitrust Division.

[FR Doc. 07-2231 Filed 5-4-07; 8:45 am]

BILLING CODE 4410-11-M